DEPARTMENT OF HEALTH AND HUMAN SERVICES

Centers for Disease Control and Prevention

[Program Announcement 04181]

Prevention of Mother to Child Transmission of HIV and Improving Access to Comprehensive HIV/AIDS Care for Mother, Family Members, and Other Patients in the Republic of Namibia; Notice of Intent To Fund Single Eligibility Award

A. Purpose

The Centers for Disease Control and Prevention (CDC) announces the intent to fund fiscal year (FY) 2004 funds for a cooperative agreement program to support the infrastructure in Namibia to increase their capacity to prevent HIV transmission from mother-to-child and to improve access to comprehensive HIV/AIDS care and support programs in the public sector. The Catalog of Federal Domestic Assistance number for this program is 93.941.

B. Eligible Applicant

Assistance will be provided only to the Ministry of Health and Social Services (MoHSS) of Namibia for support of the PMTCT and HIV/AIDS care services. No other applications are solicited. In Namibia this program will be implemented under the name “Prevention of mother to child transmission of HIV and improving access to comprehensive HIV/AIDS care for mothers, family members, and other patients in the Republic of Namibia”. The MoHSS is the only appropriate and qualified organization to fulfill the requirements set forth in this announcement because:

The MoHSS is uniquely positioned, in terms of support from the Government of Republic of Namibia (GRN). The MoHSS has the ability to financially and technically oversee the project, and to provide implementation of a large-scale interpersonal communication project as well as a mandate from the GRN.

The GRN has mandated the MoHSS to implement nationwide coverage of PMTCT and HIV/AIDS care programs. The vast majority of such patients are under the care of the MoHSS. For example, 84% of the deliveries to HIV-positive women take place in government hospitals compared with 16% in mission hospitals. The MoHSS has the ability to collect information, train staff and advocate for the programs implemented in the National AIDS Strategic Plan and disseminate personalized communication to support the fight against HIV/AIDS in the Republic of Namibia.

The GRN assisted by the CDC Global AIDS Program conducted a mid-term evaluation of the performance of the national HIV/AIDS program activities in 2003. The results led the GRN to fund the MoHSS to expand efforts to address HIV/AIDS, including PMTCT and ART programs. However, funding for these vital services remains limited. Therefore, MoHSS is the only available organization approved by the GRN to implement PMTCT and comprehensive HIV/AIDS care in the public sector health facilities.

The specific services which the CDC-GAP/MOHSS project will deliver are directly associated with the CDC prevention and care strategies implemented under the Global AIDS Program in the Republic of Namibia and integrated into the MoHSS project. [INSERT JUSTIFICATION STATEMENT FOR SINGLE ELIGIBILITY. IF THE AWARD IS LEGISLATIVELY MANDATED, PLEASE CITE LEGISLATION.]

C. Funding

Approximately $5,000,000 is available in FY 2004 to fund this award. It is expected that the award will begin on or before May 1, 2004, and will be made for a 12-month budget period within a project period of up to 3 years. Funding estimates may change.

D. Where to Obtain Additional Information

For general comments or questions about this announcement, contact: Technical Information Management, CDC Procurement and Grants Office, 2920 Brandywine Road, Atlanta, GA 30341-4146, Telephone: 770-488-2700.

For technical questions about this program, contact: Dr. Tom Kenyon, Global AIDS Program, c/o U.S. Embassy Windhoek, 2540 Windhoek Place, Washington, DC 20521, Telephone: 264 61 203 2271, Fax number: 264 61 226 959, E-mail: Tkenyon@cdc.gov.

For budget assistance, contact: Shirley Wynn, Grants Management Specialist, CDC Procurement and Grants Office, 2920 Brandywine Road, Atlanta, GA 30341, Telephone: 770-488-1515, E-mail: zbx6@cdc.gov.

Dated: May 3, 2004.
William P. Nichols,
Acting Director, Procurement and Grants Office, Centers for Disease Control and Prevention.

[FR Doc. 04-10532 Filed 5-7-04; 8:45 am]

BILLING CODE 4163-18-P